DEPARTMENT OF ENERGY

Federal Energy Regulatory Commission

[Docket No. PF15-28-000]

National Grid LNG, LLC: Notice of Intent To Prepare an Environmental Document for the Planned Fields Point Liquefaction Project, Request for Comments on Environmental Issues, and Notice of Public Scoping Meeting

The staff of the Federal Energy Regulatory Commission (FERC or Commission) will prepare an environmental document that will discuss the environmental impacts of the Fields Point Liquefaction Project involving construction and operation of facilities by National Grid LNG, LLC (NGLNG) in Providence, Rhode Island. The Commission will use this environmental document in its decision-making process to determine whether the project is in the public convenience and necessity.

This notice announces the opening of the scoping process the Commission will use to gather input from the public and interested agencies on the project. You can make a difference by providing us with your specific comments or concerns about the project. Your comments should focus on the potential environmental effects, reasonable alternatives, and measures to avoid or lessen environmental impacts. Your input will help the Commission staff determine what issues they need to evaluate in the environmental document. To ensure that your comments are timely and properly recorded, please send your comments so that the Commission receives them in Washington, DC on or before October 26, 2015.

If you sent comments on this project to the Commission before the opening of this docket on June 22, 2015, you will need to file those comments in Docket No. PF15-28-000 to ensure they are considered as part of this proceeding.

This notice is being sent to the Commission's current environmental mailing list for this project. State and local government representatives should notify their constituents of this planned project and encourage them to comment on their areas of concern.

The following libraries will be provided copies of this notice in English and Spanish:¹

¹ Para los lectores de español, por favor refieran a la traducción en español presentada simultáneamente en el expediente de la FERC con esta convocatoria. El expediente de la FERC se encuentra disponible en el sitio web de la FERC (www.ferc.gov) utilizando el enlace a través de la biblioteca electrónica, al hacer clic en “General Search”, e introducir el número de expediente excluyendo los últimos tres dígitos en el campo Número de expediente (es decir, PF15-28). Asegúrese de que ha seleccionado un intervalo de fechas adecuado. Además NGLNG puede publicar versiones en español de esta convocatoria en sitios web de noticias en español en el área de Providencia.

Providence Community Library: Washington Park, 1316 Broad Street, Providence, RI 02905, 401-781-3136 | Providence Community Library:, Knight Memorial, 275 Elmwood Avenue, Providence, RI 02907, 401-467-2625.
Cranston Public Library:, William Hall Library, 1825 Broad Street, Cranston, RI 02905, 401-781-2450 | Providence Community Library:, South Providence, 441 Prairie Avenue, Providence, RI 02905, 401-467-2619.
East Providence Library Branch, 475 Bullocks Pt. Avenue, Riverside, RI 02915, 401-433-4877 | Providence Public Library, Reference Department, 150 Empire Street, Providence, RI 02903, 401-455-8000.
Cranston Public Library:, Auburn Branch, 396 Pontiac Avenue, Cranston, RI 02910, 401-781-6116 | Providence Community Library:, Fox Point, 90 Ives Street, Providence, RI 02906, 401-331-0390.
Cranston Public Library:, Arlington Branch, 1069 Cranston Street, Cranston, RI 02920, 401-944-1662 | East Providence Public Library: Weaver, 41 Grove Avenue, East Providence, RI 02914, 401-434-2453.

Public Participation

For your convenience, there are four methods you can use to submit your comments to the Commission. The Commission will provide equal consideration to all comments received, whether filed in written form or provided verbally during a FERC scoping meeting. The Commission encourages electronic filing of comments and has expert staff available to assist you at (202) 502-8258 or efiling@ferc.gov. Please carefully follow these instructions so that your comments are properly recorded.

(1) You can file your comments electronically using the eComment feature on the Commission's Web site (www.ferc.gov) under the link to Documents and Filings. This is an easy method for submitting brief, text-only comments on a project;

(2) You can file your comments electronically by using the eFiling feature on the Commission's Web site (www.ferc.gov) under the link to Documents and Filings. With eFiling, you can provide comments in a variety of formats by attaching them as a file with your submission. New eFiling users must first create an account by clicking on “eRegister.” If you are filing a comment on a particular project, please select “Comment on a Filing” as the filing type; or

(3) You can file a paper copy of your comments by mailing them to the following address. Be sure to reference the project docket number (PF15-28-000) with your submission: Kimberly D. Bose, Secretary, Federal Energy Regulatory Commission, 888 First Street NE., Room 1A, Washington, DC 20426.

(4) In lieu of sending written or electronic comments, the Commission invites you to attend the public scoping meeting its staff will conduct in the project area, scheduled as follows: FERC Public Scoping Meeting, Fields Point Liquefaction Project, October 8, 2015, 6:30 p.m., Juanita Sanchez Educational Complex at the Providence Academy of International Studies High School, 182 Thurbers Avenue, Providence, RI.

We will begin our sign up of speakers at 6 p.m. The scoping meeting will begin at 6:30 p.m. with a description of our environmental review process by Commission staff, after which speakers will be called. The meeting will end once all speakers have provided their comments or at 10:30 p.m., whichever comes first. Please note that there may be a time limit of three minutes to present comments, and speakers should structure their comments accordingly.

If time limits are implemented, they will be strictly enforced to ensure that as many individuals as possible are given an opportunity to comment. The meetings will be recorded by a court reporter to ensure comments are accurately recorded. Transcripts will be entered into the formal record of the Commission proceeding.

Please note this is not your only public input opportunity; please refer to the review process flow chart in Appendix 1.²

² The appendices referenced in this notice will not appear in the Federal Register. Copies of the appendices were sent to all those receiving this notice in the mail and are available at www.ferc.gov using the link called “eLibrary” or from the Commission's Public Reference Room, 888 First Street NE., Washington, DC 20426, or call (202) 502-8371. For instructions on connecting to eLibrary, refer to the last page of this notice.

Summary of the Planned Project

NGLNG plans to add liquefaction capability at the existing liquefied natural gas (LNG) storage facility located at Fields Point in Providence, Rhode Island. The Project would include one new 20 million standard cubic feet per day gas pretreatment and liquefaction system to convert natural gas into LNG by cooling it to −260 °F.

The storage operation at Fields Point has been in existence for approximately 40 years and does not include any liquefaction equipment. The natural gas delivered to the facility via the existing pipeline would be pre-treated, liquefied, and conveyed to the existing storage tank.

A figure showing the general location of the existing and proposed facilities is shown in Appendix 2. If approved, NGLNG plans to begin construction of the Project in late 2016.

Land Requirements for Construction

The existing facility is in an industrial area along the Providence River at 121 Terminal Road. The total land proposed to be disturbed for construction of this project is reported to be approximately 8.91 acres. The liquefaction system would occupy approximately 1.85 acres within the existing facility's footprint.

The Environmental Document Preparation Process

The National Environmental Policy Act (NEPA) requires the Commission to take into account the environmental impacts that could result from an action whenever it considers the issuance of a Certificate of Public Convenience and Necessity. NEPA also requires us ³ to discover and address concerns the public may have about proposals. This process is referred to as scoping. The main goal of the scoping process is to focus the analysis in the environmental document on the important environmental issues. By this notice, the Commission requests public comments on the scope of the issues to address in the environmental document. We will consider all filed comments during the preparation of the environmental document.

³ “We,” “us,” and “our” refer to the environmental staff of the Commission's Office of Energy Projects.

In the environmental document, we will discuss impacts that could occur as a result of the construction and operation of the planned project under these general headings:

• Geology and soils;

• land use;

• water resources, fisheries, and wetlands;

• cultural resources;

• vegetation and wildlife;

• air quality and noise;

• socioeconomics;

• endangered and threatened species;

• public safety; and

• cumulative impacts.

We will also evaluate possible alternatives to the planned project or portions of the project, and make recommendations on how to lessen or avoid impacts on the various resource areas.

Although no formal application has been filed, we have already initiated our NEPA review under the Commission's pre-filing process. The purpose of the pre-filing process is to encourage early involvement of interested stakeholders and to identify and resolve issues before the FERC receives an application. As part of our pre-filing review, we have begun to contact some federal and state agencies to discuss their involvement in the scoping process and the preparation of the environmental document.

The environmental document will present our independent analysis of the issues. The environmental document will be available in the public record through eLibrary. Depending on the comments received during the scoping process, we may also publish and distribute the environmental document to the public for an allotted comment period. If the document is published and distributed to the public, we will consider all timely comments on the environmental document before we make our recommendations to the Commission. To ensure we have the opportunity to consider and address your comments, please carefully follow the instructions in the Public Participation section, beginning on page 2.

With this notice, we are asking agencies with jurisdiction by law and/or special expertise with respect to the environmental issues related to this project to formally cooperate with us in the preparation of the environmental document.⁴ Agencies that would like to request cooperating agency status should follow the instructions for filing comments provided under the Public Participation section of this notice.

⁴ The Council on Environmental Quality regulations addressing cooperating agency responsibilities are at Title 40, Code of Federal Regulations, part 1501.6.

Consultations Under Section 106 of the National Historic Preservation Act

In accordance with the Advisory Council on Historic Preservation's implementing regulations for Section 106 of the National Historic Preservation Act, we are using this notice to initiate consultation with the applicable State Historic Preservation Office(s), and to solicit their views and those of other government agencies, interested Indian tribes, and the public on the project's potential effects on historic properties.⁵ We will define the project-specific Area of Potential Effects (APE) in consultation with the SHPO(s) as the project develops. On natural gas facility projects, the APE at a minimum encompasses all areas subject to ground disturbance (examples include construction staging areas, access roads, and the footprint of the planned liquefaction facility). Our environmental document for this project will document our findings on the impacts on historic properties and summarize the status of consultations under Section 106.

⁵ The Advisory Council on Historic Preservation regulations are at Title 36, Code of Federal Regulations, Part 800. Those regulations define historic properties as any prehistoric or historic district, site, building, structure, or object included in or eligible for inclusion in the National Register of Historic Places.

Environmental Mailing List

The environmental mailing list includes federal, state, and local government representatives and agencies; elected officials; environmental and public interest groups; Native American Tribes; other interested parties; and local libraries and newspapers. This list also includes all affected landowners (as defined in the Commission's regulations) who are potential right-of-way grantors, whose property may be used temporarily for project purposes, or who own homes within certain distances of aboveground facilities, and anyone who submits comments on the project. We will update the environmental mailing list as the analysis proceeds to ensure that we send the information related to this environmental review to all individuals, organizations, and government entities interested in and/or potentially affected by the planned project.

If we publish and distribute the environmental document, copies of it will be sent to the environmental mailing list for public review and comment. If you would prefer to receive a paper copy of the document instead of the CD version or would like to remove your name from the mailing list, please return the attached Information Request (Appendix 3).

Becoming an Intervenor

Once NGLNG files its application with the Commission, you may want to become an “intervenor” which is an official party to the Commission's proceeding. Intervenors play a more formal role in the process and are able to file briefs, appear at hearings, and be heard by the courts if they choose to appeal the Commission's final ruling. An intervenor formally participates in the proceeding by filing a request to intervene. Motions to intervene are more fully described at http://www.ferc.gov/resources/guides/how-to/intervene.asp. Instructions for becoming an intervenor are in the “Document-less Intervention Guide” under the “e-filing” link on the Commission's Web site. Please note that the Commission will not accept requests for intervenor status at this time. You must wait until the Commission receives a formal application for the project.

Additional Information

Additional information about the project is available from the Commission's Office of External Affairs, at (866) 208-FERC, or on the FERC Web site (www.ferc.gov) using the eLibrary link. Click on the eLibrary link, click on “General Search” and enter the docket number, excluding the last three digits in the Docket Number field (i.e., PF15-28). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/docs-filing/esubscription.asp.

Finally, public meetings or site visits will be posted on the Commission's calendar located at www.ferc.gov/EventCalendar/EventsList.aspx along with other related information.

Dated: September 25, 2015.
Nathaniel J. Davis, Sr.,
Deputy Secretary.

[FR Doc. 2015-25012 Filed 10-1-15; 8:45 am]

BILLING CODE 6717-01-P